FEDERAL FINANCIAL INSTITUTIONS EXAMINATION COUNCIL

[Docket No. AS25-09]

Appraisal Subcommittee; Notice of Meeting

AGENCY: Appraisal Subcommittee of the Federal Financial Institutions Examination Council.

ACTION: Notice of special closed meeting.

Description: In accordance with section 1104(b) of title XI of the Financial Institutions Reform, Recovery, and Enforcement Act of 1989, codified at 12 U.S.C. 3333(b), and the Appraisal Subcommittee (ASC) Rules of Operation, notice is hereby given that the ASC met for a Special Closed Meeting on July 23, 2025.

Location: Virtual Meeting via MS Teams

Date: July 23, 2025

Time: 11:00 a.m. ET

Action and Discussion Item

Personnel Matter

The ASC convened a Special Closed Meeting to discuss and take a vote on a personnel matter, pursuant to section 1104(b) of title XI (12 U.S.C. 3333(b)).

Loretta Schuster,
Management & Program Analyst.

[FR Doc. 2025-14750 Filed 8-4-25; 8:45 am]

BILLING CODE 6700-01-P